COMMITTEE FOR PURCHASE FROM PEOPLE WHO ARE BLIND OR SEVERELY DISABLED

Procurement List; Proposed Additions and Deletion

ACTION: Proposed Additions to and Deletion from the Procurement List.

SUMMARY: The Committee is proposing to add to the Procurement List products and services to be furnished by nonprofit agencies employing persons who are blind or have other severe disabilities, and to delete a service previously furnished by such agencies.

Comments Must be Received on or Before: July 22, 2007.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

BioRenewable Cleaners:

NSN: 4510-00-NIB-0014-Waterless Hand Cleaner Dispenser;

NSN: 4510-00-NIB-0019-Foamy Hand Cleaner Dispenser;

NSN: 7930-00-NIB-0329-TriBase Multi Purpose Cleaner (1GL);

NSN: 7930-00-NIB-0330-BioRenewables Glass Cleaner RTU (32oz);

NSN: 7930-00-NIB-0331-BioRenewables Glass Cleaner (1-GL);

NSN: 7930-00-NIB-0391-BioRenewables Industrial Degreaser (5-GL);

NSN: 7930-00-NIB-0433-Graffiti Remover SAC (32oz);

NSN: 7930-00-NIB-0434-Graffiti Remover SAC (1GL);

NSN: 7930-00-NIB-0437-BioRenewables Restroom Cleaner (32oz);

NSN: 8520-00-NIB-0020-Lite'n Foamy Hand, Hair, and Body Wash-Sunflower Fresh Intro;

NSN: 8520-00-NIB-0094-BioRenewables Waterless Plus Hand Cleaner Refill;

NSN: 8520-00-NIB-0095-BioRenewables Waterless Hand Cleaner Intro;

NSN: 8520-00-NIB-0096-BioRenewables Waterless Hand Cleaner Refill;

NSN: 8520-00-NIB-0097-BioRenewables Waterless Plus Hand Cleaner Intro;

NSN: 8520-00-NIB-0098-Lite'n Foamy Hand, Hair, and Body Wash-Sunflower Fresh Refill.

NPA: Susquehanna Association for the Blind and Visually Impaired, Lancaster, PA.

Contracting Activity: General Services Administration, Southwest Supply Center, Fort Worth, TX.

Coverage: B-List-for the broad Government requirement as specified by the General Services Administration.

Cartridge, Toner, Remanufactured:

NSN: 7510-00-NSH-0075-Remfg HP LJ Toner Cartridge-OEM C7115X;

NSN: 7510-00-NSH-0076-Remfg HP LJ Toner Cartridge-OEM C3909A;

NSN: 7510-00-NSH-0077-Remfg HP LJ Toner Cartridge-OEM C4096A;

NSN: 7510-00-NSH-0078-Remfg HP LJ Toner Cartridge-OEM C4127X;

NSN: 7510-00-NSH-0079-Remfg HP LJ Toner Cartridge-OEM C8061X.

NPA: Thresholds Rehabilitation Inc., Chicago, IL.

Contracting Activity: General Services Administration, Office Supplies & Paper Products Acquisition Center, New York, NY.

Coverage: A-List—100% for the total Government requirement as specified by the General Services Administration.

Folder, File, Pressboard:

NSN: 7530-00-NIB-0822.

NPA: Georgia Industries for the Blind, Bainbridge, GA.

Contracting Activity: General Services Administration, Office Supplies & Paper Products Acquisition Center, New York, NY.

Coverage: A-List—100% for the total Government requirement as specified by the General Services Administration.

GOJO/Skilcraft:

NSN: 8520-00-NIB-0084—GOJO/Skilcraft 1250 ml Foam Soap Dispensers, BX 6;

NSN: 8520-00-NIB-0086—GOJO/Skilcraft 1250 ml Green Seal Foam Handwash Refill;

NSN: 8520-00-NIB-0088—GOJO/Skilcraft 1250 ml Foam Handwash Refill;

NSN: 8520-00-NIB-0100—GOJO/Skilcraft 1250 ml Foam Soap Dispenser Kit.

Purell/Skilcraft:

NSN: 8520-00-NIB-0099—Purell/Skilcraft 1200 ml Instant Hand Wash Sanitizer Refill;

NSN: 8520-00-NIB-0101—Purell/Skilcraft 1250 ml Foam Soap Dispenser;

NSN: 8520-00-NIB-0102—Purell/Skilcraft 1250 ml Foam Soap Dispensers, BX 6.

NPA: Travis Association for the Blind, Austin, TX.

Contracting Activity: General Services Administration, Southwest Supply Center, Fort Worth, TX.

Coverage: A-List—100% for the total Government requirement as specified by the General Services Administration.

Undershirt, Man's, Blue:

NSN: 8420-01-540-0611—XX Small;

NSN: 8420-01-540-0612—X Small;

NSN: 8420-01-540-0614—Small;

NSN: 8420-01-540-1758—Medium;

NSN: 8420-01-540-1759—Large;

NSN: 8420-01-540-1760—X Large;

NSN: 8420-01-540-1761—XX Large;

NSN: 8420-01-540-1762—XXX Large.

NPA: The Arkansas Lighthouse for the Blind, Little Rock, AR.

Contracting Activity: Defense Supply Center Philadelphia, Philadelphia, PA.

Coverage: C-List for the requirements of the Defense Supply Center Philadelphia, Philadelphia, PA.

Services

Service Type/Location: Administrative Services, U.S. Department of Agriculture, Forest Products Laboratory, One Gifford Pinchot Dr., Madison, WI.

NPA: Madison Area Rehabilitation Centers, Inc., Madison, WI.

Contracting Activity: U.S. Department of Agriculture, Forest Products Laboratory, Madison, WI.

Service Type/Location: Vehicle Washing Service, General Services Administration, Fleet Management Division, Region 2, Puerto Rico and Virgin Islands.

NPA: The Corporate Source, Inc., New York, NY.

Contracting Activity: General Services Administration, Property Management Center—Manhattan, New York, NY.

Service Type/Location: Vehicle Washing Service, U.S. Customs and Border Protection, Puerto Rico and Virgin Islands.

NPA: The Corporate Source, Inc., New York, NY.

Contracting Activity: Department of Homeland Security, U.S. Customs and Border Protection, Indianapolis, IN.

Service Type/Location: Mailroom Operations, Internal Revenue Service Mailroom, 10 Metrotech Center, Brooklyn, NY.

Service Type/Location: Mailroom Operations, Internal Revenue Service Mailroom, 290 Broadway, Foley Square, New York, NY.

NPA: Fedcap Rehabilitation Services, Inc., New York, NY.

Service Type/Location: Mailroom Operations, Internal Revenue Service Mailroom, 1000 Liberty Ave, Pittsburgh, PA.

NPA: Blind and Vision Rehabilitation Services of Pittsburgh, Pittsburgh, PA.

Service Type/Location: Mailroom Operations, Internal Revenue Service Mailroom, 107 Charles Lindberg Blvd., Garden City, NY.

Service Type/Location: Mailroom Operations, Internal Revenue Service Mailroom, 110 West 44th Street (Midtown), New York, NY.

NPA: The Corporate Source, Inc., New York, NY.

Service Type/Location: Mailroom Operations, Internal Revenue Service Mailroom, 51 SW First Avenue, Miami, FL.

NPA: Abilities, Inc. of Florida, Clearwater, FL.

Service Type/Location: Mailroom Operations, Internal Revenue Service Mailroom, 110 City Parkway, Las Vegas, NV.

NPA: Blind Center of Nevada, Inc., Las Vegas, NV.

Service Type/Location: Mailroom Operations, Internal Revenue Service Mailroom, 1240 East Ninth Street, Cleveland, OH.

NPA: VGS, Inc., Cleveland, OH.

Service Type/Location: Mailroom Operations, Internal Revenue Service Mailroom, 2001 Butterfield Road, Downers Gove, IL.

NPA: Jewish Vocational Service and Employment Center, Chicago, IL.

Service Type/Location: Mailroom Operations, Internal Revenue Service Mailroom, 225 West Broadway, Glendale, CA.

NPA: Pacific Coast Community Services, Richmond, CA.

Service Type/Location: Mailroom Operations, Internal Revenue Service Mailroom, 2888 Woodcock Blvd, Atlanta, GA.

NPA: Bobby Dodd Institute, Inc., Atlanta, GA.

Service Type/Location: Mailroom Operations, Internal Revenue Service Mailroom, 9350 East Flair Drive, El Monte, CA.

NPA: Lincoln Training Center and Rehabilitation Workshop, South El Monte, CA.

NPA: ServiceSource, Inc., Alexandria, VA (PRIME CONTRACTOR).

Contracting Activity: U.S. Department of Treasury, Internal Revenue Service Headquarters, Oxon Hill, MD.

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following service is proposed for deletion from the Procurement List:

Service Service Type/Location: Family Housing Maintenance, Sheppard Air Force Base, Sheppard AFB, TX.

NPA: Work Services Corporation, Wichita Falls, TX.

Contracting Activity: USAF—Air Education and Training Command, Sheppard AFB, TX.

Kimberly M. Zeich,
Director, Program Operations.

[FR Doc. E7-12105 Filed 6-21-07; 8:45 am]

BILLING CODE 6353-01-P